NATIONAL CAPITAL PLANNING COMMISSION

Notice of Public Comment Period and Public Meeting on Policies Related to Tree Replacement in the Federal Environment Element of the Comprehensive Plan for the National Capital

AGENCY: National Capital Planning Commission.

ACTION: Notice of 60-Day public comment period and public meeting.

SUMMARY: The National Capital Planning Commission (NCPC) has released a draft of the Federal Environment Element, Section G of the Comprehensive Plan for the National Capital: Federal Elements for public review. The Element establishes policies in Section G to preserve and replace trees that are impacted by development on Federal land so they contribute to the sustainability of the National Capital Region's environment. NCPC will host an information session for the public to learn more about the draft policies related to tree replacement in Section G of the Federal Environment Element of the Comprehensive Plan for the National Capital.

DATES: The public comment period closes September 14, 2020.

The meeting will be held virtually on Wednesday, July 29 at 4:30 p.m. to 5:30 p.m.

ADDRESSES: The draft is available online for review at https://www.ncpc.gov/initiatives/treereplacement/.

Registration information for the meeting is available online at https://www.ncpc.gov/initiatives/treereplacement/.

Written public comments on the draft submitted electronically are preferred but may be submitted by either method:

1. U.S. mail, courier, or hand deliver: Federal Environment, Section G, Public Comment, National Capital Planning Commission, 401 9th Street NW, Suite 500N, Washington, DC 20004.

2. Electronically: https://www.ncpc.gov/initiatives/treereplacement/.

FOR FURTHER INFORMATION CONTACT: Stephanie Free at (202) 482-7209 or info@ncpc.gov.

Authority: 40 U.S.C. 8721(e)(2).

Dated: July 9, 2020.
Debra Dickson,
Director, Office of Administration.

[FR Doc. 2020-15325 Filed 7-15-20; 8:45 am]

BILLING CODE P